DEPARTMENT OF TRANSPORTATION

Maritime Administration

[Docket No. MARAD 2011 0140]

Information Collection Available for Public Comments and Recommendations

Action: Notice and request for comments

SUMMARY: In accordance with the Paperwork Reduction Act of 1995, this notice announces the Maritime Administration's (MARAD) intentions to request approval of the Office of Management and Budget (OMB) to conduct a new information collection entitled, “the Maritime Administration's Panama Canal Expansion Study Outreach Program.” This program is being implemented as part of MARAD's comprehensive study of the 2014 Panama Canal Expansion (Study) and its anticipated impacts on U.S. Ports and infrastructure.

DATES: Comments should be submitted on or before December 30, 2011.

FOR FURTHER INFORMATION CONTACT: Ms. Yvette M. Fields, Director, Office of Deepwater Ports and Offshore Activities, Maritime Administration, 1200 New Jersey Avenue SE., W21-309, Washington, DC 20590, Telephone: (202) 366-0926 or Email: mailto:Yvette.Fields@dot.gov. Copies of this collection also can be obtained from that office.

SUPPLEMENTARY INFORMATION: Title of Collection: Maritime Administration's Panama Canal Expansion Study Outreach Program.

Type of Request: New Collection.

OMB Control Number: 2133-NEW.

Forms: Shipper Survey.

Expiration Date of Approval: Three years from date of approval by OMB.

Summary of Collection of Information: This three-tiered information collection process will directly support MARAD's efforts to evaluate and assess the impacts of the Panama Canal Expansion on U.S. Ports and infrastructure when the project is completed in 2014. First, a series of up to five (5) public meetings (Listening Sessions) will be conducted to provide a forum for stakeholders to present their views on the issues that MARAD should consider in the development of the Study and to assess the various infrastructure requirements that will be associated with future trade involving the Panama Canal. Second, one-on-one interviews will be conducted with approximately 80 key executives from various U.S. ports, port operators, manufacturers, and transportation service providers to identify their specific plans, investment strategies, and perspectives concerning market trends, which are a critical part of the subject of the Study. Finally, MARAD's on-line Panama Canal Shipper Survey will be conducted to garner information regarding the current decision processes used by “Beneficial Cargo Owners” to determine potential changes to their logistics networks and the contingency plans that have been developed (or will be developed) to address the potential impacts on their costs and routing strategies as a result of the Panama Canal Expansion.

Need and Use of the Information: The information obtained through this process will be used to present to Federal leaders considerations for policy, investment, and funding options as well as recommendations for policy changes that will favorably impact the overall shift in the Nation's trade patterns.

Description of Respondents: Ports and Port Operators, Manufacturers, Service Providers, Shippers, (Railroad/Trucking/Third Party Logistics [3PLs]), Investors and Investment Institutions, Industry Associations, Academic/Research Institutions and State and local governmental planning and development agencies.

Annual Responses: 1,480 responses.

Annual Burden: 4,075 hours.

Comments: Comments should refer to the docket number that appears at the top of this document. Written comments may be submitted to the Docket Clerk, U.S. DOT Dockets, Room W12-140, 1200 New Jersey Avenue SE., Washington, DC 20590. Comments also may be submitted by electronic means via the Internet at http://www.regulations.gov. Specifically address whether this information collection is necessary for the proper performance of the functions of the agency and will have practical utility, accuracy of the burden estimates, ways to minimize this burden, and ways to enhance the quality, utility, and clarity of the information to be collected. All comments received will be available for examination at the above address between 10 a.m. and 5 p.m. EDT (or EST), Monday through Friday, except Federal holidays. An electronic version of this document is available on the World Wide Web at http://www.regulations.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: 49 CFR 1.66.

By Order of the Maritime Administrator.
Dated: October 25, 2011.
Julie Agarwal,
Secretary, Maritime Administration.

[FR Doc. 2011-28027 Filed 10-28-11; 8:45 am]

BILLING CODE 4910-81-P